DEPARTMENT OF VETERANS AFFAIRS

Veterans' Advisory Committee on Education; Notice of Meeting

The Department of Veterans Affairs (VA) gives notice under Public Law 92-463 (Federal Advisory Committee Act) that the Veterans' Advisory Committee on Education will meet on Thursday, May 6, 2004, from 8:30 a.m. to 4 p.m. and Friday, May 7, 2004, from 8:30 a.m. to 12 p.m. at the Servicemembers Opportunity Colleges, 1307 New York Avenue, NW., Fifth Floor, Washington, DC 20005-4701. The meeting is open to the public.

The purpose of the Committee is to advise the Secretary of Veterans Affairs on the administration of education and training programs for veterans and servicepersons, reservists and dependents of veterans under chapters 30, 32, 35, and 36 of title 38, and chapter 1606 of title 10, United States.

On May 6, the meeting will begin with opening remarks by Mr. James Bombard, Committee Chair. Agenda items will include an introduction of new members, ethics training, review of pending legislation, equity issues for reserve components, electronic transmission of VA certification, raising of reporting fees to certifying officials, and any other issues that the Committee members may choose to introduce. On May 7, the Committee will review and summarize current and past issues and discuss future meeting location and topics.

Interested persons may submit written statements to the Committee before the meeting, or within 10 days after the meeting, to Mr. Stephen Dillard, Designated Federal Officer, Department of Veterans Affairs, Veterans Benefits Administration (225B), 810 Vermont Avenue, NW., Washington, DC 20420. Oral statements from the public will be heard at 9:05 a.m., Friday, May 7, 2004. Anyone wishing to attend the meeting should contact Mr. Stephen Dillard or Mr. Michael Yunker at (202) 273-7187.

Dated: April 2, 2004.
By Direction of the Secretary.
E. Philip Riggin,
Committee Management Officer.

[FR Doc. 04-8065 Filed 4-8-04; 8:45 am]

BILLING CODE 8320-01-M